DEPARTMENT OF THE INTERIOR

Fish and Wildlife Service

[FWS-R4-R-2012-N218; FXRS12650400000S3-123-FF04R02000]

St. Vincent National Wildlife Refuge, FL; Final Comprehensive Conservation Plan and Finding of No Significant Impact for the Environmental Assessment

AGENCY: Fish and Wildlife Service, Interior.

ACTION: Notice of availability.

SUMMARY: We, the Fish and Wildlife Service (Service), announce the availability of the final comprehensive conservation plan (CCP) and finding of no significant impact for the environmental assessment for St. Vincent National Wildlife Refuge (NWR) in Franklin and Gulf Counties, Florida. In the final CCP, we describe how we will manage this refuge for the next 15 years.

ADDRESSES: You may obtain a copy of the CCP by writing to Ms. Shelley Stiaes via U.S. mail at St. Vincent National Wildlife Refuge, P.O. Box 447, Apalachicola, FL 32329. Alternatively, you may download the document from our Internet site, http://southeast.fws.gov/planning, under “Final Documents.”

FOR FURTHER INFORMATION CONTACT: Ms. Shelley Stiaes, at 850-653-8808 (telephone) or shelley_stiaes@fws.gov (email).

SUPPLEMENTARY INFORMATION:

Introduction

With this notice, we finalize the CCP process for St. Vincent NWR. We started the process through a notice in the Federal Register on April 8, 2009 (74 FR 16002). For more about the process, see that notice.

St. Vincent NWR is located in Franklin and Gulf Counties along the Gulf Coast of northwest Florida, approximately 60 miles from Panama City and 80 miles from Tallahassee. St. Vincent NWR's approved acquisition boundary is approximately 13,736 acres, with a current management boundary of approximately 12,490 acres. The staff oversees 21 Farm Service Agency easements, totaling 1,625 acres in six counties. The 12,490-acre refuge boundary includes two islands—St. Vincent (12,358 acres) and Pig (46 acres). It also includes a mainland tract—14 Mile Tract (86 acres).

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft Comprehensive Conservation Plan and Environmental Assessment (Draft CCP/EA) available for a 30-day public review and comment period via a Federal Register notice on May 2, 2012 (77 FR 26035). We provided more than 125 copies of the Draft CCP/EA to those individuals or organizations requesting a copy. A total of 12 individuals, organizations, and government agencies provided comments by U.S. mail or email. Comments were received from many organizations, including the Florida Fish and Wildlife Commission; University of South Florida; Florida State University; Florida Department of Environmental Protection; Florida Natural Areas Inventory; Choctaw Nation of Oklahoma; Jena Band of Choctaw Indians; and Florida Department of State, Division of Historical Resources; and several members of the public.

CCP Alternatives, Including our Preferred Alternative

We developed three alternatives for managing the refuge (Alternatives A, B, and C), with Alternative C selected for implementation. This alternative will focus on a greater effort to manage and protect the refuge's native and imperiled species. We will continue to survey and monitor species of federal responsibility, such as threatened and endangered species, migratory birds, and key native species, but will also gain a better understanding of native species on the refuge. Additional efforts will be made to protect and support nesting for key species, as well as gain a better understanding of population dynamics of some species. We will conduct evaluations to determine if it is suitable to reestablish populations of the eastern indigo snake, gopher tortoise, and eastern wild turkey on the refuge.

We will continue to manage lakes 1, 2, and 3 by seasonal draw-downs to support the needs of shorebirds and wading birds. Lakes 4 and 5 will continue to support deep water for a freshwater fisheries program, with an occasional draw-down to manage vegetation within the system. Since the purchase of the refuge, there has been minimal emphasis on timber condition, so a forest habitat assessment will be conducted. The management of exotic, invasive, and nuisance animals and plants will be a focus, with emphasis on aggressively eradicating feral hogs.

Wildlife-dependent recreational uses of the refuge will be expanded. We will allow hunting of white-tailed deer, sambar deer, and raccoon. Fishing will consist of saltwater and freshwater opportunities. Wildlife observation, wildlife photography, and environmental education and interpretation will be enhanced to focus on imperiled species, the unique barrier island history and ecosystem as they relate to the coastal environment, and management style incorporating climate change effects. We will enhance the environmental education program to incorporate Florida Sunshine Standards, while establishing guidelines for public programs. Vehicle tours that meet management objectives will continue as long as we have sufficient staff to support the program. In addition to the current staff, the following positions will be added: assistant refuge manager, wildlife biologist, maintenance worker, wildlife officer, visitor services specialist, and boat operator. We will also add a wildlife biologist under the Student Conservation Employment Program, continue our participation in the Youth Conservation Corps, and explore Student Conservation Association and AmeriCorps program opportunities.

We will continue to use volunteers and strive to build stronger relationships with the Friends group and our partners to manage the resources, support the Strategic Habitat Conservation initiative, and the Landscape Conservation Cooperative. As climate change affects the refuge, we will increase research of species and habitat changes to support the best management decisions through adaptive management.

We have included compatibility determinations in the final CCP for the following: (1) Hunting (Big Game); (2) Recreational Fishing; (3) Environmental Education and Interpretation; (4) Wildlife Observation and Photography; (5) Hiking, Jogging, Walking, and Bicycling; (6) Boating (canoeing and kayaking); (7) Camping (associated with hunting); (8) Firewood Gathering (associated with hunting); (9) General Research and Scientific Collecting; and (10) Beach Use and Shelling.

Authority

This notice is published under the authority of the National Wildlife Refuge System Improvement Act of 1997 (16 U.S.C. 668dd et seq.).

Dated: November 2, 2012.
Mark J. Musaus,
Acting Regional Director.

[FR Doc. 2013-00653 Filed 1-14-13; 8:45 am]

BILLING CODE 4310-55-P